DEPARTMENT OF ENERGY

Federal Energy Regulatory Commission

[Project No. 10172-038]

Missisquoi River Technologies; Missisquoi River Hydro LLC; Notice of Transfer of Exemption

1. By letter filed November 16, 2011, Missisquoi River Technologies informed the Commission that its exemption from licensing for the North Troy Hydroelectric Project No. 10172, originally issued June 29, 1989,¹ has been transferred to Missisquoi River Hydro LLC. The project is located on the Missisquoi River in Orleans County, Vermont. The transfer of an exemption does not require Commission approval.

¹ 47 FERC ¶ 62,284 (1989).

2. Missisquoi River Hydro LLC, located at 453 East Hill Rd., Middlesex, VT 05602, is now the exemptee of the North Troy Hydroelectric Project No. 10172.

Dated: November 28, 2011.
Kimberly D. Bose,
Secretary.

[FR Doc. 2011-31029 Filed 12-1-11; 8:45 am]

BILLING CODE 6717-01-P